DEPARTMENT OF ENERGY

Federal Energy Regulatory Commission

[Docket No. CP22-495-000]

Transcontinental Gas Pipe Line Company, LLC; Notice of Intent To Prepare an Environmental Impact Statement for the Proposed Texas to Louisiana Energy Pathway Project, Request for Comments on Environmental Issues, Notice of Public Scoping Session, and Schedule for Environmental Review

The staff of the Federal Energy Regulatory Commission (FERC or Commission) will prepare an environmental impact statement (EIS) that will discuss the environmental impacts of the Texas to Louisiana Energy Pathway Project (Project) involving construction and operation of facilities by Transcontinental Gas Pipe Line Company, LLC (Transco) in Fort Bend and Hardin Counties, Texas. The Commission will use this EIS in its decision-making process to determine whether the Project is in the public convenience and necessity. The schedule for preparation of the EIS is discussed in the Schedule for Environmental Review section of this notice.

This notice announces the opening of the scoping process the Commission will use to gather input from the public and interested agencies regarding the project. As part of the National Environmental Policy Act (NEPA) review process, the Commission takes into account concerns the public may have about proposals and the environmental impacts that could result from its action whenever it considers the issuance of a Certificate of Public Convenience and Necessity. This gathering of public input is referred to as “scoping.” The main goal of the scoping process is to focus the analysis in the environmental document on the important environmental issues. Additional information about the Commission's NEPA process is described below in the NEPA Process and the EIS section of this notice.

By this notice, the Commission requests public comments on the scope of issues to address in the environmental document, including comments on potential alternatives and impacts, and any relevant information, studies, or analyses of any kind concerning impacts affecting the quality of the human environment. To ensure that your comments are timely and properly recorded, please submit your comments so that the Commission receives them in Washington, DC on or before 5:00 p.m. Eastern Time on December 16, 2022. Comments may be submitted in written or oral form. Further details on how to submit comments are provided in the Public Participation section of this notice.

If you are a landowner receiving this notice, a pipeline company representative may contact you about the acquisition of an easement to construct, operate, and maintain the proposed facilities. The company would seek to negotiate a mutually acceptable easement agreement. You are not required to enter into an agreement. However, if the Commission approves the Project, the Natural Gas Act conveys the right of eminent domain to the company. Therefore, if you and the company do not reach an easement agreement, the pipeline company could initiate condemnation proceedings in court. In such instances, compensation would be determined by a judge in accordance with state law. The Commission does not grant, exercise, or oversee the exercise of eminent domain authority. The courts have exclusive authority to handle eminent domain cases; the Commission has no jurisdiction over these matters.

Transco provided landowners with a fact sheet prepared by the FERC entitled “An Interstate Natural Gas Facility On My Land? What Do I Need To Know?” which addresses typically asked questions, including the use of eminent domain and how to participate in the Commission's proceedings. This fact sheet along with other landowner topics of interest are available for viewing on the FERC website (www.ferc.gov) at the Landowner Topics link.

Public Participation

There are four methods you can use to submit your comments to the Commission. The Commission encourages electronic filing of comments and has staff available to assist you at (866) 208-3676 or FercOnlineSupport@ferc.gov. Please carefully follow these instructions so that your comments are properly recorded.

(1) You can file your comments electronically using the eComment feature, which is located on the Commission's website (www.ferc.gov) under the link to FERC Online. Using eComment is an easy method for submitting brief, text-only comments on a project;

(2) You can file your comments electronically by using the eFiling feature, which is also on the Commission's website (www.ferc.gov) under the link to FERC Online. With eFiling, you can provide comments in a variety of formats by attaching them as a file with your submission. New eFiling users must first create an account by clicking on “eRegister.” You will be asked to select the type of filing you are making; a comment on a particular project is considered a “Comment on a Filing”;

(3) You can file a paper copy of your comments by mailing them to the Commission. Be sure to reference the project docket number (CP22-495-000) on your letter. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852; and

(4) In lieu of sending written comments, the Commission invites you to attend the public scoping session its staff will conduct in the project area, scheduled as follows:

Date and time | Location
Thursday, December 15, 2022, 5:00 p.m.-8:00 p.m | George Memorial Library, 1001 Golfview Drive, Richmond, Texas, (281) 341-2605.

The primary goal of these scoping sessions is to have you identify the specific environmental issues and concerns that should be considered in the environmental document. Individual oral comments will be taken on a one-on-one basis with a court reporter. This format is designed to receive the maximum amount of oral comments in a convenient way during the timeframe allotted.

The scoping session is scheduled from 5:00 p.m. to 8:00 p.m. Central Time Zone. You may arrive at any time after 5:00 p.m. There will not be a formal presentation by Commission staff when the session opens. If you wish to speak, the Commission staff will hand out numbers in the order of your arrival. Comments will be taken until 8:00 p.m. However, if no additional numbers have been handed out and all individuals who wish to provide comments have had an opportunity to do so, staff may conclude the session at 7:30 p.m. Please see appendix 2 for additional information on the session format and conduct.¹

¹ The appendices referenced in this notice will not appear in the Federal Register. Copies of the appendices were sent to all those receiving this notice in the mail and are available at www.ferc.gov using the link called “eLibrary”. For instructions on connecting to eLibrary, refer to the last page of this notice. At this time, the Commission has suspended access to the Commission's Public Reference Room due to the proclamation declaring a National Emergency concerning the Novel Coronavirus Disease (COVID-19), issued by the President on March 13, 2020. For assistance, contact FERC at FERCOnlineSupport@ferc.gov or call toll free, (886) 208-3676 or TTY (202) 502-8659.

Your scoping comments will be recorded by a court reporter (with FERC staff or representative present) and become part of the public record for this proceeding. Transcripts will be publicly available on FERC's eLibrary system (see the last page of this notice for instructions on using eLibrary). If a significant number of people are interested in providing oral comments in the one-on-one settings, a time limit of 5 minutes may be implemented for each commentor. Although there will not be a formal presentation, Commission staff will be available throughout the scoping session to answer your questions about the environmental review process.

It is important to note that the Commission provides equal consideration to all comments received, whether filed in written form or provided orally at a scoping session.

Additionally, the Commission offers a free service called eSubscription. This service provides automatic notification of filings made to subscribed dockets, document summaries, and direct links to the documents. Go to https://www.ferc.gov/ferc-online/overview to register for eSubscription.

Summary of the Proposed Project, the Project Purpose and Need, and Expected Impacts

Transco proposes to construct and operate one new compressor station and modify one existing compressor station. The Project would increase the firm capacity of the system from 171,400 dekatherms per day (Dth/day) to 364,400 Dth/day. According to Transco, its Project would provide year-round firm transportation capacity on Transco's mainline from the Valley Crossing Interconnection to the Station 65 Pooling Point.

The Project would consist of the following facilities:

• construction of a new 15,900-horsepower compressor station in Fort Bend County, Texas, consisting of a natural gas-fired turbine-driven compression unit with cooling (Compressor Station 33);

• modification of six existing compressors at Compressor Station 40 in Hardin County, Texas, to accommodate new flow conditions resulting from the Project; and

• programming updates (not involving the installation of any facilities or any ground disturbance) at existing Compressor Station 23 in Victoria County, Texas, to allow for enhanced system operation in the northbound direction.

The general location of the Project facilities is shown in appendix 1.²

² The appendices referenced in this notice will not appear in the Federal Register. Copies of the appendices were sent to all those receiving this notice in the mail and are available at www.ferc.gov using the link called “eLibrary”. For instructions on connecting to eLibrary, refer to the last page of this notice. At this time, the Commission has suspended access to the Commission's Public Reference Room due to the proclamation declaring a National Emergency concerning the Novel Coronavirus Disease (COVID-19), issued by the President on March 13, 2020. For assistance, contact FERC at FERCOnlineSupport@ferc.gov or call toll free, (886) 208-3676 or TTY (202) 502-8659.

Based on the environmental information provided by Transco, construction of the proposed facilities would disturb about 72 acres of land for the aboveground facilities. Following construction, Transco would maintain about 17 acres for operation of the proposed new Project facilities; the remaining acreage would be restored and revert to former uses. During construction of the aboveground facility, the temporary workspace would be utilized for contractor staging areas. No off-site contractor yards or staging areas would be required for construction of the Project. Existing public roads would be used to access the proposed compressor station site, and no new temporary or permanent access roads are proposed.

Based on an initial review of Transco's proposal, Commission staff have identified several expected impacts that deserve attention in the EIS. The Project would result in impacts on air quality resulting from construction and operational emissions of greenhouse gases, and potentially from downstream emissions resulting from the increased firm capacity of the system. Additionally, the Project is within one environmental justice community and is within 0.5 mile of another environmental justice community. Only agricultural land would be impacted by the Project. It is not anticipated that the Project would impact waterbodies, wetlands, or archeological sites.

The NEPA Process and the EIS

The EIS issued by the Commission will discuss impacts that could occur as a result of the construction and operation of the proposed Project under the relevant general resource areas:

• geology and soils;

• water resources and wetlands;

• vegetation and wildlife;

• threatened and endangered species;

• cultural resources;

• socioeconomics and environmental justice;

• land use;

• air quality and noise; and

• reliability and safety.

Commission staff will also make recommendations on how to lessen or avoid impacts on the various resource areas. Your comments will help Commission staff focus its analysis on the issues that may have a significant effect on the human environment.

The EIS will present Commission staff's independent analysis of the issues. As of the date of this notice, there are no cooperating agencies in the preparation of the EIS.³ Staff will prepare a draft EIS which will be issued for public comment. Commission staff will consider all timely comments received during the comment period on the draft EIS and revise the document, as necessary, before issuing a final EIS. Any draft and final EIS will be available in electronic format in the public record through eLibrary ⁴ and the Commission's natural gas environmental documents web page (https://www.ferc.gov/industries-data/natural-gas/environment/environmental-documents). If eSubscribed, you will receive instant email notification when the environmental document is issued.

³ The Council on Environmental Quality regulations addressing cooperating agency responsibilities are at title 40 Code of Federal Regulations (CFR), section 1501.8. (2021).

⁴ For instructions on connecting to eLibrary, refer to the last page of this notice.

Alternatives Under Consideration

The EIS will evaluate reasonable alternatives that are technically and economically feasible and meet the purpose and need for the proposed action.⁵ Alternatives currently under consideration include:

⁵ 40 CFR 1508.1(z).

• the no-action alternative, meaning the Project is not implemented;

• system alternatives, including alternative system configurations, pipeline loops, and alternative compression configurations; and

• site location alternatives for the new compressor station.

With this notice, the Commission requests specific comments regarding any additional potential alternatives to the proposed action or segments of the proposed action. Please focus your comments on reasonable alternatives (including alternative facility sites and pipeline routes) that meet the Project objectives, are technically and economically feasible, and avoid or lessen environmental impact.

Consultation Under Section 106 of the National Historic Preservation Act

In accordance with the Advisory Council on Historic Preservation's implementing regulations for section 106 of the National Historic Preservation Act, the Commission is using this notice to initiate consultation with the applicable State Historic Preservation Office(s), and other government agencies, interested Indian tribes, and the public to solicit their views and concerns regarding the Project's potential effects on historic properties.⁶ The Project EIS will document findings on the impacts on historic properties and summarize the status of consultations under section 106.

⁶ The Advisory Council on Historic Preservation's regulations are at title 36, Code of Federal Regulations, part 800. Those regulations define historic properties as any prehistoric or historic district, site, building, structure, or object included in or eligible for inclusion in the National Register of Historic Places.

Schedule for Environmental Review

On August 23, 2022, the Commission issued its Notice of Application for the Project. Among other things, that notice alerted other agencies issuing federal authorizations of the requirement to complete all necessary reviews and to reach a final decision on the request for a federal authorization within 90 days of the date of issuance of the Commission staff's final EIS for the Project. This notice identifies the Commission staff's planned schedule for completion of the final EIS for the Project, which is based on an issuance of the draft EIS in June 2023.

Issuance of Notice of Availability of the final EIS November 30, 2023

90-day Federal Authorization Decision Deadline ⁷ February 28, 2024

⁷ The Commission's deadline applies to the decisions of other federal agencies, and state agencies acting under federally delegated authority, that are responsible for federal authorizations, permits, and other approvals necessary for proposed projects under the Natural Gas Act. Per 18 CFR 157.22(a), the Commission's deadline for other agency's decisions applies unless a schedule is otherwise established by federal law.

If a schedule change becomes necessary for the final EIS, an additional notice will be provided so that the relevant agencies are kept informed of the Project's progress.

Permits and Authorizations

The table below lists the anticipated permits and authorizations for the Project required under federal law. This list may not be all-inclusive and does not preclude any permit or authorization if it is not listed here. Agencies with jurisdiction by law and/or special expertise may formally cooperate in the preparation of the Commission's EIS and may adopt the EIS to satisfy its NEPA responsibilities related to this Project. Agencies that would like to request cooperating agency status should follow the instructions for filing comments provided under the Public Participation section of this notice.

Agency | Permit/consultation
FERC | Certificate of Public Convenience and Necessity.
U.S. Fish and Wildlife Service | Section 7 of the Endangered Species Act; Migratory Bird Treaty Act; and Bald and Golden Eagle Protection Act.
Texas Historical Commission | National Historic Preservation Act (NHPA) Section 106 Cultural Resources Review.
U.S. Army Corps of Engineers (delegated to Texas Commission on Environmental Quality) | Clean Water Act, water quality certification.

Environmental Mailing List

This notice is being sent to the Commission's current environmental mailing list for the Project which includes federal, state, and local government representatives and agencies; elected officials; environmental and public interest groups; Native American Tribes; other interested parties; and local libraries and newspapers. This list also includes all affected landowners (as defined in the Commission's regulations) who are potential right-of-way grantors, whose property may be used temporarily for Project purposes, or who own homes within certain distances of aboveground facilities, and anyone who submits comments on the Project and includes a mailing address with their comments. Commission staff will update the environmental mailing list as the analysis proceeds to ensure that Commission notices related to this environmental review are sent to all individuals, organizations, and government entities interested in and/or potentially affected by the proposed Project. State and local government representatives should notify their constituents of this proposed Project and encourage them to comment on their areas of concern.

If you need to make changes to your name/address, or if you would like to remove your name from the mailing list, please complete one of the following steps:

(1) Send an email to GasProjectAddressChange@ferc.gov stating your request. You must include the docket number CP22-495-000 in your request. If you are requesting a change to your address, please be sure to include your name and the correct address. If you are requesting to delete your address from the mailing list, please include your name and address as it appeared on this notice. This email address is unable to accept comments.

OR

(2) Return the attached “Mailing List Update Form” (appendix 2).

Additional Information

Additional information about the Project is available from the Commission's Office of External Affairs, at (866) 208-FERC, or on the FERC website at www.ferc.gov using the eLibrary link. Click on the eLibrary link, click on “General Search” and enter the docket number in the “Docket Number” field (i.e., CP22-495). Be sure you have selected an appropriate date range. For assistance, please contact FERC Online Support at FercOnlineSupport@ferc.gov or (866) 208-3676, or for TTY, contact (202) 502-8659. The eLibrary link also provides access to the texts of all formal documents issued by the Commission, such as orders, notices, and rulemakings.

Public sessions or site visits will be posted on the Commission's calendar located at https://www.ferc.gov/news-events/events along with other related information.

Dated: November 16, 2022.
Kimberly D. Bose,
Secretary.

Appendix 1

BILLING CODE 6717-01-P

Appendix 2

Session Format

FERC is conducting the session to solicit your scoping comments. There will not be a formal presentation by Commission staff; however, FERC staff is available to answer questions about the environmental review process. The session format is as follows:

• Tickets are handed out on a “first come, first serve” basis starting at the time listed in the Notice.

• Individuals are called in ticket number order to provide oral comments to be transcribed by a court reporter for the public record.

• Time limits on oral comments may be enforced to ensure that all those wishing to comment have the opportunity to do so within the designated session time.

• Written comments may be submitted in addition to, or in lieu of, oral comments.

• Additional materials about FERC and the environmental review process are available at information stations at the session.

Session Conduct

Proper conduct will help the sessions maintain a respectful atmosphere for attendees to learn about the FERC Environmental Review Process and to be able to provide comments effectively.

• Loudspeakers, lighting, oversized visual aids, or other visual or audible disturbances are not permitted.

• Disruptive video and photographic equipment may not be used.

• Conversations should be kept to a reasonable volume. Attendees should be respectful of those providing oral comments to the court reporters.

• Recorded interviews are not permitted within the session space.

FERC reserves the right to end the session if disruptions interfere with the opportunity for individuals to provide oral comments or if there is a safety or security risk.

Appendix 3

MAILING LIST UPDATE FORM

Texas to Louisiana Energy Pathway Project

Name

Agency

Address

City

State

Zip Code

□ Please update the mailing list

□ Please remove my name from the mailing list

FROM

ATTN: OEP—Gas 1, PJ—11.1

Federal Energy Regulatory Commission

888 First Street NE

Washington, DC 20426

(Docket No. CP22-495, Texas to Louisiana Energy Pathway Project)

Staple or Tape Here

[FR Doc. 2022-25465 Filed 11-22-22; 8:45 am]

BILLING CODE 6717-01-C